DEPARTMENT OF AGRICULTURE

Food Safety and Inspection Service

[Docket No. FSIS-2010-0004]

Availability of Compliance Guide for Mobile Slaughter Units

AGENCY: Food Safety and Inspection Service, USDA.

ACTION: Notice of availability and opportunity for comments.

SUMMARY: The Food Safety and Inspection Service (FSIS) is announcing the availability of a compliance guide on mobile slaughter units. FSIS will post this compliance guide on its Significant Guidance Documents Web page http://www.fsis.usda.gov/Significant_Guidance/index.asp. FSIS encourages those who own or manage mobile slaughter units to avail themselves of this guidance document in meeting the pertinent regulatory requirements. FSIS is also soliciting comments on this compliance guide. The Agency will consider carefully all comments submitted and will revise the guide as warranted.

DATES: Submit written comments by July 26, 2010.

ADDRESSES: FSIS invites interested persons to submit comments on this notice and the compliance guidelines. Comments may be submitted by either of the following methods:

Federal eRulemaking Portal: This Web site provides the ability to type short comments directly into the comment field on this Web page or attach a file for lengthier comments. Go to http://www.regulations.gov. Follow the online instructions at that site for submitting comments.

Mail, including floppy disks or CD-ROMs, and hand- or courier-delivered items: Send to Docket Clerk, U.S. Department of Agriculture (USDA), FSIS, Room 2-2127, George Washington Carver Center, 5601 Sunnyside Avenue, Mailstop 5474, Beltsville, MD 20705-5474.

Instructions: All items submitted by mail or electronic mail must include the Agency name and docket number FSIS-2010-0004. Comments received in response to this docket will be made available for public inspection and posted without change, including any personal information, to http://www.regulations.gov.

Docket: For access to background documents or to comments received, go to the FSIS Docket Room at the address listed above between 8:30 a.m. and 4:30 p.m., Monday through Friday.

FOR FURTHER INFORMATION CONTACT: Mark.Cutrufelli@fsis.usda.gov, phone: (770) 304-8919.

SUPPLEMENTARY INFORMATION:

Background

A mobile slaughter unit (MSU) is a self-contained slaughter facility that can travel from site to site. The MSU compliance guide is intended for owners and managers of a new or existing red meat or poultry mobile slaughter unit who want their business to come under Federal inspection and to operate in accordance with FSIS regulations. The document includes the procedures necessary to receive a Federal grant of inspection, unique concerns that may arise with mobile slaughter units, and links to regulatory requirements and resources.

The meat and poultry industries have become increasingly consolidated, while consumer interest in locally grown and specialty products has continued to expand. MSUs can help producers meet consumer demand for locally grown and specialty products and can serve multiple small producers in areas where slaughter services might be unaffordable or otherwise unavailable. Therefore MSUs can help small producers expand their businesses and create wealth in rural communities.

Additional Public Notification

Public awareness of all segments of rulemaking and policy development is important. Consequently, in an effort to ensure that minorities, women, and persons with disabilities are aware of this notice, FSIS will announce it online through the FSIS Web page located at http://www.fsis.usda.gov/regulations_&_policies/2010_Notices_Index/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on May 17, 2010.
Alfred V. Almanza,
Administrator.

[FR Doc. 2010-12510 Filed 5-24-10; 8:45 am]

BILLING CODE 3410-DM-P